DEPARTMENT OF ENERGY

Federal Energy Regulatory Commission

Combined Notice of Filings #1

Take notice that the Commission received the following electric rate filings:

Docket Numbers: ER15-2013-000.

Applicants: Talen Energy Marketing, LLC.

Description: Supplement to June 26, 2015 Talen Energy Marketing, LLC tariff filing.

Filed Date: 8/11/15.

Accession Number: 20150811-5145.

Comments Due: 5 p.m. ET 9/1/15.

Docket Numbers: ER15-2425-000.

Applicants: Puget Sound Energy, Inc.

Description: Initial rate filing: Air Products TX NITSA Refile to be effective 9/1/2014.

Filed Date: 8/13/15.

Accession Number: 20150813-5004.

Comments Due: 5 p.m. ET 9/3/15.

Docket Numbers: ER15-2426-000.

Applicants: Northern Indiana Public Service Company.

Description: Proposed Reactive Power Revenue Requirements of Northern Indiana Public Service Company for twelve generating facilities located in the MISO pricing zone under ER15-2426.

Filed Date: 8/12/15.

Accession Number: 20150812-5196.

Comments Due: 5 p.m. ET 9/2/15.

Docket Numbers: ER15-2427-000.

Applicants: PJM Interconnection, L.L.C., American Transmission Systems, Incorporated.

Description: Section 205(d) Rate Filing: ATSI submits First Revised Service Agreement Nos. 3992 & 3994 to be effective 10/13/2015.

Filed Date: 8/13/15.

Accession Number: 20150813-5075.

Comments Due: 5 p.m. ET 9/3/15.

Docket Numbers: ER15-2428-000.

Applicants: Exelon Framingham, LLC.

Description: Tariff Cancellation: Notice of Cancellation to be effective 8/14/2015.

Filed Date: 8/13/15.

Accession Number: 20150813-5135.

Comments Due: 5 p.m. ET 9/3/15.

Docket Numbers: ER15-2429-000.

Applicants: Exelon New Boston, LLC.

Description: Tariff Cancellation: Notice of Cancellation to be effective 8/14/2015.

Filed Date: 8/13/15.

Accession Number: 20150813-5142.

Comments Due: 5 p.m. ET 9/3/15.

Docket Numbers: ER15-2430-000.

Applicants: Exelon Wyman, LLC.

Description: Tariff Cancellation: Notice of Cancellation to be effective 8/14/2015.

Filed Date: 8/13/15.

Accession Number: 20150813-5149.

Comments Due: 5 p.m. ET 9/3/15.

Docket Numbers: ER15-2431-000.

Applicants: Exelon West Medway, LLC.

Description: Tariff Cancellation: Notice of Cancellation to be effective 8/14/2015.

Filed Date: 8/13/15.

Accession Number: 20150813-5153.

Comments Due: 5 p.m. ET 9/3/15.

Take notice that the Commission received the following electric reliability filings:

Docket Numbers: EL13-52-000; RR13-12-000.

Applicants: Western Electricity Coordinating Council.

Description: Informational Filing of Peak Reliability.

Filed Date: 8/11/15.

Accession Number: 20150811-5214.

Comments Due: 5 p.m. ET 9/1/15.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 13, 2015.
Kimberly D. Bose,
Secretary.

[FR Doc. 2015-20462 Filed 8-18-15; 8:45 am]

BILLING CODE 6717-01-P